DEPARTMENT OF AGRICULTURE

Grain Inspection, Packers and Stockyards Administration

Opportunity To Comment on the Applicants for the Cedar Rapids, IA Area Consisting of Northeast Iowa, Southeast Minnesota, and East Texas

AGENCY: Grain Inspection, Packers and Stockyards Administration, USDA.

ACTION: Notice and request for comments.

SUMMARY: GIPSA requests comments on the applicants for designation to provide official services in the Cedar Rapids, Iowa area that was open for designation.

• Gulf Country Inspection Service, Inc. (Gulf Country) applied for the Cedar Rapids, Iowa area.

• South Texas Grain Inspection, LLC (South Texas) applied for part of the Cedar Rapids, Iowa area, the east Texas region.

• Mid-Iowa Grain Inspection, Inc. (Mid-Iowa) applied for their current designation in Cedar Rapids, Iowa.

DATES: Comments must be postmarked or electronically dated on or before April 25, 2008.

ADDRESSES: We invite you to submit comments on these applicants. You may submit comments by any of the following methods:

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This Action has been reviewed and determined not to be a rule or regulation as defined in Executive Order 12866 and Departmental Regulation 1512-1; therefore, the Executive Order and Departmental Regulation do not apply to this action.

In the December 3, 2007, Federal Register (72 FR 67885), GIPSA asked persons interested in providing official services in the Cedar Rapids, Iowa area to submit an application for designation.

There were three applicants for the Cedar Rapids, Iowa area comprised of northeast Iowa, southeast Minnesota, and east Texas open for designation: Mid-Iowa, currently designated for the entire area and doing business as InterContinental Grain Inspections in east Texas region, applied for the entire area. Gulf Country, a corporation not currently designated, owned by Tyrone Robichaux, John Shropshire, Eurvin Williams, Pat LaCour, and Dan Williams, applied for the entire area, but stated they would accept no less than the east Texas region. South Texas, a limited liability company not currently designated, owned by Corpus Christi Grain Exchange, Inc., applied for a portion of the east Texas region bounded on the north and east by Maverick, Uvalde, Medina, Bexar, Comal, Guadalupe, Gonzales, Lavaca, and Jackson Counties; and bounded on the south and west by the Texas state line.

GIPSA is publishing this notice to provide interested persons the opportunity to present comments concerning the applicants. Commenters are encouraged to submit reasons and pertinent data for support or objection to the designation of the applicants. All comments must be submitted to the Compliance Division at the above address or at http://www.regulations.gov. Comments and other available information will be considered in making a final decision. GIPSA will publish notice of the final decision in the Federal Register, and GIPSA will send the applicants written notification of the decision.

Authority: 7 U.S.C. 71-87k.

James E. Link,
Administrator, Grain Inspection, Packers and Stockyards Administration.

[FR Doc. E8-5538 Filed 3-25-08; 8:45 am]

BILLING CODE 3410-KD-P